DEPARTMENT OF TRANSPORTATION

Pipeline and Hazardous Materials Safety Administration

[Docket No. PHMSA-2007-28505]

Pipeline Safety: Requests for Special Permit

AGENCY: Pipeline and Hazardous Materials Safety Administration (PHMSA); DOT.

ACTION: Notice.

SUMMARY: The Federal pipeline safety laws allow a pipeline operator to request PHMSA to waive compliance with any part of the Federal pipeline safety regulations by granting a special permit to the operator. PHMSA is publishing this notice to provide a list of special permit requests we have received from pipeline operators seeking relief from compliance with certain pipeline safety regulations. This notice seeks public comment on these requests, including comments on any environmental impacts. At the conclusion of the comment period, PHMSA will evaluate each request individually to determine whether to grant or deny a special permit.

DATES: Submit any comments regarding any of these special permit requests by May 29, 2008.

ADDRESSES: Comments should reference the docket number for the special permit request and may be submitted in the following ways:

• E-Gov Web Site: http://www.regulations.gov. This site allows the public to enter comments on any Federal Register notice issued by any agency.

• Fax: 1-202-493-2251.

• Mail: Docket Management System: U.S. Department of Transportation, Docket Operations, M-30, West Building, Ground Floor, Room W12-140, 1200 New Jersey Avenue, SE., Washington, DC 20590.

• Hand Delivery: DOT Docket Management System; U.S. Department of Transportation, Docket Operations, M-30, West Building, Ground Floor, Room W12-140, 1200 New Jersey Avenue, SE., Washington, DC 20590 between 9 a.m. and 5 p.m., Monday through Friday, except Federal holidays.

Instructions: You should identify the docket number for the special permit request you are commenting on at the beginning of your comments. If you submit your comments by mail, submit two copies. To receive confirmation that PHMSA received your comments, include a self-addressed stamped postcard. Internet users may submit comments at http://www.regulations.gov.

Note: Comments are posted without changes or edits to http://www.regulations.gov, including any personal information provided. There is a privacy statement published on http://www.regulations.gov.

FOR FURTHER INFORMATION CONTACT: Wayne Lemoi by telephone at (404) 832-1160; or, e-mail at wayne.lemoi@dot.gov.

SUPPLEMENTARY INFORMATION: PHMSA has filed in the Federal docket management system at http://www.regulations.gov requests for special permits we have received from pipeline operators seeking relief from compliance with certain pipeline safety regulations. Each request has been assigned a separate docket number. We invite interested persons to participate by reviewing these special permit requests and by submitting written comments, data or other views. Please include any comments on environmental impacts granting the special permit may have.

Before acting on any special permit request, PHMSA will evaluate all comments received on or before the comment closing date. We will consider comments received after this date if it is possible to do so without incurring additional expense or delay. We may grant a special permit or deny a request based on the comments we receive.

PHMSA has received the following special permit requests:

Docket No. | Requester | Regulation(s) | Nature of special permit
PHMSA-2008-0066 | Columbia Gulf Transmission Company (CGT) | 49 CFR 195.452(h) | To authorize CGT to operate nine pipeline segments in three sections of Mainline 100, 200 and 300 in Williamson and Davidson Counties, Tennessee without reducing the operating pressure as a result of changes from Class 1 and Class 2 locations to Class 3 locations.
PHMSA-2008-0067 | Boardwalk Pipeline Partners, LP (Boardwalk) | 49 CFR 192.111, 49 CFR 192.201 | To authorize Boardwalk to construct and operate approximately 262.6 miles of two, 36-inch, natural gas transmission lateral pipelines at a maximum allowable operating pressure (MAOP) of 1250 pounds per square inch gauge (psig), which corresponds to a pipe stress level up to 80 percent of the steel pipe's specified minimum yield strength (SMYS) in Class 1 locations, 67 percent SMYS in Class 2 locations, and 56 percent SMYS in Class 3 locations. The pipelines are the 166.2-mile Fayetteville Lateral located primarily in Arkansas but crosses the Mississippi River into western Mississippi and the 96.4-mile Greenville Lateral located entirely in Mississippi.
PHMSA-2008-0068 | Gulf Crossing Pipeline Company (GCPC) | 49 CFR 192.111, 49 CFR 192.201 | To authorize GCPC to construct and operate approximately 353.2 miles of a new 42-inch natural gas transmission pipeline running from Grayson County, Texas to Madison Parish, Louisiana at an MAOP of 1480 psig, which corresponds to a pipe stress level up to 80 percent of SMYS in Class 1 locations, 67 percent SMYS in Class 2 locations and 56 percent SMYS in Class 3 locations. The special permit request also includes a 17.8-mile, 42-inch, loop line from Hinds County to Simpson County, MS, which is part of the Gulf Crossing project.
PHMSA-2008-0077 | Florida Gas Transmission Company (FGT) | 49 CFR 192.111, 49 CFR 192.201, 49 CFR 192.505, 49 CFR 192.611, 49 CFR 192.619 | To authorize FGT to operate certain pipeline segments along its approximately 741.2-mile mainline natural gas transmission pipeline system running from Mobile County, Alabama to Lee County, Florida at an MAOP of up to 1333 psig, which corresponds to a pipe stress level up to 80 percent of SMYS in Class 1 locations, 67 percent SMYS in Class 2 locations and 56 percent SMYS in Class 3 locations.

Authority: 49 U.S.C. 60118(c)(1) and 49 CFR 1.53.

Issued in Washington, DC on April 21, 2008.
Barbara Betsock,
Acting Director, Office of Regulations.

[FR Doc. E8-9259 Filed 4-28-08; 8:45 am]

BILLING CODE 4910-60-P